DEPARTMENT OF STATE

[Public Notice: 9164]

U.S. National Commission for UNESCO; Notice of Closed Teleconference Meeting

The U.S. National Commission for UNESCO will hold a conference call on Wednesday, July 1, 2015, beginning at 1:00 p.m. Eastern Time. The teleconference meeting will be closed to the public to allow the Commission to discuss applications for the UNESCO Young Professionals Program. This call will be closed pursuant to Section 10(d) of the Federal Advisory Committee Act and 5 U.S.C. 552b(c)(6) because it will involve discussions of information of a personal and financial nature regarding the relative merits of individual applicants where disclosure would constitute a clearly unwarranted invasion of privacy. For more information contact Allison Wright, Executive Director of the U.S. National Commission for UNESCO, Washington, DC 20037. Telephone: (202) 663-0026; Fax: (202) 663-0035; Email: DCUNESCO@state.gov.

Dated: June 4, 2015.
Allison Wright,
Executive Director, U.S. National Commission for UNESCO, Department of State.

[FR Doc. 2015-14191 Filed 6-9-15; 8:45 am]

BILLING CODE 4710-19-P